DEPARTMENT OF LABOR

Employment and Training Administration

[TA-W-64,819]

Teck-Washington, Inc.; Pend Oreille Mine; a Subsidiary of Teck-American, Inc.; Metaline Falls, WA; Notice of Revised Determination on Reopening

The Department, on its own motion, reopened its investigation for workers and former workers of Teck-Washington, Inc., Pend Oreille Mine, Metaline Falls, Washington. The workers produce zinc concentrate.

The initial investigation resulted in a negative determination issued on January 26, 2009, based on the finding that there were no increased imports of zinc concentrate, nor did the subject firm shift production of zinc concentrate to a foreign country. Since the workers were denied eligibility to apply for trade adjustment assistance (TAA) they were also denied eligibility to apply for alternative trade adjustment assistance (ATAA) for older workers. The notice was published in the Federal Register on February 23, 2009 (74 FR 8116).

New information obtained by the Department shows that there was a shift in production of zinc concentrate from the workers' firm to Mexico.

Employment at the subject firm has declined.

Based on these findings, it is determined in this case that the requirements of (a)(2)(B) of Section 222 have been met.

In order for the Department to issue a certification of eligibility to apply for alternative trade adjustment assistance ATAA, the group eligibility requirements of Section 246 of the Trade Act must be met. The Department has determined in this case that the requirements of Section 246 have been met.

A significant number of workers at the firm are age 50 or over and possess skills that are not easily transferable. Competitive conditions in the industry are adverse.

Conclusion

After careful consideration of the new facts obtained on reopening, it is concluded that there was a shift in production by the workers' firm or subdivision to Mexico of articles that are like or directly competitive with those produced by the subject firm or subdivision.

In accordance with the provisions of the Trade Act of 1974, I make the following revised determination:

All workers of Teck-Washington, Inc., Pend Oreille Mine, A Subsidiary of Teck-American, Inc., Metaline Falls, Washington, who became totally or partially separated from employment on or after January 6, 2008, are eligible to apply for adjustment assistance under Section 223 of the Trade Act of 1974, and are also eligible to apply for alternative trade adjustment assistance under Section 246 of the Trade Act of 1974.

Signed in Washington, DC, this 13th day of March 2009.
Linda G. Poole,
Certifying Officer, Division of Trade Adjustment Assistance.

[FR Doc. E9-7102 Filed 3-30-09; 8:45 am]

BILLING CODE 4510-FN-P